POSTAL SERVICE

39 CFR Part 111

Packaging Standards and General Mailability

AGENCY: Postal Service.

ACTION: Proposed rule; extension of comment period.

SUMMARY: The Postal Service™ is extending the comment period for the proposed rule titled “Packaging Standards and General Mailability” that was published on February 26, 2004, in the Federal Register (69 FR 8899-8905).

DATES: The comment period is extended through May 13, 2004.

ADDRESSES: Mail or deliver written comments to the Manager, Mailing Standards, Attn: Neil Berger, U.S. Postal Service, 1735 N. Lynn Street, Room 3025, Arlington, VA 22209-6038. Written comments may also be submitted via facsimile transmission to (703) 292-4058. Copies of all written comments will be available for inspection and photocopying between 9 a.m. and 4 p.m., Monday through Friday, at the Postal Service Headquarters Library, 475 L'Enfant Plaza, SW., 11th Floor North, Washington, DC.

FOR FURTHER INFORMATION CONTACT: Neil Berger at (703) 292-3645, Mailing Standards, United States Postal Service.

SUPPLEMENTARY INFORMATION: On February 26, 2004, the Postal Service published a proposed rule containing minor changes and editorial reorganization to the Domestic Mail Manual (DMM ™) in order to clarify and standardize packaging and closing requirements, types of acceptable mailing containers, and mailing requirements for certain articles processed on Postal Service sorting equipment.

This proposed rule would also update terminology and reorganize current standards for better reference and presentation. This proposed rule does not affect any of the current standards for the preparation of presort destination packages of mailpieces prepared under DMM M020.

Neva R. Watson,
Attorney, Legislative.

[FR Doc. 04-8255 Filed 4-12-04; 8:45 am]

BILLING CODE 7710-12-P